DEPARTMENT OF DEFENSE

GENERAL SERVICES ADMINISTRATION

NATIONAL AERONAUTICS AND SPACE ADMINISTRATION

[OMB Control No. 9000-0001; Docket No. 2014-0055; Sequence No. 18]

Information Collection; Affidavit of Individual Surety, Standard Form 28

AGENCIES: Department of Defense (DOD), General Services Administration (GSA), and National Aeronautics and Space Administration (NASA).

ACTION: Notice of request for public comments regarding an extension to an existing OMB clearance.

SUMMARY: Under the provisions of the Paperwork Reduction Act of 1995 (44 U.S.C. Chapter 35), the Regulatory Secretariat Division (MVCB) will be submitting to the Office of Management and Budget (OMB) a request to review and approve an extension of a currently approved information collection requirement concerning Standard Form (SF) 28, Affidavit of Individual Surety.

DATES: Submit comments on or before September 22, 2014.

ADDRESSES: Submit comments identified by Information Collection 9000-0001 by any of the following methods:

• Regulations.gov: http://www.regulations.gov. Submit comments via the Federal eRulemaking portal by searching the OMB control number 9000-0001. Select the link “Comment Now” that corresponds with “Information Collection 9000-0001, SF 28, Affidavit of Individual Surety”. Follow the instructions provided on the screen. Please include your name, company name (if any), and “Information Collection 9000-0001 SF 28, Affidavit of Individual Surety” on your attached document.

• Fax: 202-501-4067.

• Mail: General Services Administration, Regulatory Secretariat Division (MVCB), 1800 F Street NW., Washington, DC 20405. ATTN: Ms. Flowers/IC 9000-0001, SF 28, Affidavit of Individual Surety.

Instructions: Please submit comments only and cite Information Collection 9000-0001, in all correspondence related to this collection. All comments received will be posted without change to http://www.regulations.gov, including any personal and/or business confidential information provided.

FOR FURTHER INFORMATION CONTACT: Ms. Cecelia L. Davis, Procurement Analyst, Acquisition Policy Division, GSA, 202-219-0202 or email Cecelia.davis@gsa.gov.

SUPPLEMENTARY INFORMATION:

A. Purpose

The Affidavit of Individual Surety SF 28 is used by all executive agencies, including the Department of Defense, to obtain information from individuals wishing to serve as sureties to Government bonds. To qualify as a surety on a Government bond, the individual must show a net worth not less than the penal amount of the bond on the SF 28. It is an elective decision on the part of the maker to use individual sureties instead of other available sources of surety or sureties for Government bonds. We are not aware if other formats exist for the collection of this information.

The information on SF 28 is used to assist the contracting officer in determining the acceptability of individuals proposed as sureties.

B. Annual Reporting Burden

Based on a comprehensive reassessment performed, this information collection resulted in no change in the total burden hours from the previous information collection that was published in the Federal Register at 76 FR 60050 on September 28, 2011. The previous assessment performed resulted in a change to the “Response per Respondent” and “Hours per Response” categories. The 1.43, responses per respondent, was lowered to 1. to adequately reflect this category. A respondent has to respond completely not partially when submitting this form. The “Hours per Response” category was been decreased to .3 (18 minutes) from .4 (24 minutes) to reflect the benefits of being able to submit the required information electronically, as respondents no longer have to print and physically mail forms.

Respondents: 500.

Responses per Respondent: 1.

Total Responses: 500.

Hours per Response: 0.3.

Total Burden Hours: 150.

Obtaining Copies of Proposals: Requesters may obtain a copy of the information collection documents from the General Services Administration, Regulatory Secretariat Division (MVCB), 1800 F Street NW., Washington, DC 20405, telephone 202-501-4755. Please cite OMB Control No. 9000-0001, SF 28, Affidavit of Individual Surety, in all correspondence.

Dated: July 17, 2014.
Karlos Morgan,
Acting Director, Federal Acquisition Policy Division, Office of Government-wide Acquisition Policy, Office of Acquisition Policy, Office of Government-wide Policy.

[FR Doc. 2014-17405 Filed 7-23-14; 8:45 am]

BILLING CODE 6820-EP-P